NATIONAL SCIENCE FOUNDATION

Special Emphasis Panel in Mathematical Sciences; Notice of Meeting

In accordance with the Federal Advisory Committee Act (Pub. L. 92-463, as amended), the National Science Foundation announces the following meeting.

Name: Special Emphasis Panel in Mathematical Sciences (1204).

Date/Time: March 22-24, 2001, 7:30 a.m.-5 p.m.

Place: Room 310, National Science Foundation, 4201 Wilson Boulevard, Arlington, VA.

Type of Meeting: Closed.

Contact Persons: Drs. Sidney A. Coon, (703) 292-7382, Brent B. Gordon. (703) 292-4877, and Henry A. Warchall, (703) 292-4861, Program Directors, National Science Foundation, 4201 Wilson Boulevard, Arlington, VA 22230.

Purpose of Meeting: To provide advice and recommendations concerning proposals submitted to NSF for financial support.

Agenda: To review and evaluate proposals concerning the Mathematical Sciences and Physics Programs, as part of the selection process for awards.

Reason for Closing: The proposals being reviewed include information of a proprietary or confidential nature, including technical information; financial data, such as salaries and personal information concerning individuals associated with the proposals. These matters are exempt under 5 U.S.C. 552b(c)(4) and (6) of the Government in the Sunshine Act.

Dated: February 14, 2001.
Susanne Bolton,
Committee Management Officer.

[FR Doc. 01-4161 Filed 2-20-01; 8:45 am]

BILLING CODE 7555-01-M